DEPARTMENT OF JUSTICE

Notice of Lodging of Consent Decree Pursuant to the Comprehensive Environmental Response, Compensation, and Liability Act

On July 23, 2019, the Department of Justice lodged a proposed Consent Decree (“Consent Decree”) in the United States District Court for the Northern District of Alabama, in the lawsuit entitled the United States of America v. MRC Holdings, Inc., Civil Action No. 1:19-cv-01153-CLM.

This Consent Decree represents a settlement of the United States' (“Plaintiff's”) claims against MRC, Holdings, Inc. (“MRC” or “Defendant”) under Sections 104, 106, 107, 113 and 122 of the Comprehensive Environmental Response, Compensation, and Liability Act (“CERCLA”), 42 U.S.C. , 9604, 9607, 9613 and 9622, relating to the Anniston PCB Hazardous Waste Site (“Site”) located in and around Anniston, Alabama. The Consent Decree requires MRC to undertake injunctive measures to remediate specific parcels of property identified in the Consent Decree where hazardous substances are located. More specifically, the Consent Decree requires the Defendant to perform a remedial design and remedial action (“RD/RA”) at those properties in accordance with a Record of Decision (“ROD”) issued by the Environmental Protection Agency (“EPA”) and Statement of Work (“SOW”) attached to the Consent Decree as Appendix A. In addition, MRC is required under the Consent Decree to reimburse EPA for both past and future response costs.

The publication of this notice opens a period for public comment on the Consent Decree. Comments should be addressed to the Assistant Attorney General, Environment and Natural Resources Division, and should refer to United States of America v. MRC Holdings, Inc., and the D.J. Ref. No. 90-11-2-07135/15. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Amended Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $10.50 (25 cents per page reproduction cost) payable to the United States Treasury for the Consent Decree and $15.00 for the Consent Decree and Exhibits thereto.

Henry S. Friedman,
Assistant Section Chief, Environmental Enforcement Section, Environment and Natural Resources Division.

[FR Doc. 2019-16307 Filed 7-30-19; 8:45 am]

BILLING CODE 4410-CW-P